DEPARTMENT OF THE INTERIOR

Fish and Wildlife Service

50 CFR Part 17

RIN 1018-AI68

Endangered and Threatened Wildlife and Plants; Listing of the Central California Distinct Population Segment of the California Tiger Salamander; Reclassification of the Sonoma County and Santa Barbara County Distinct Populations from Endangered to Threatened; Special Rule

AGENCY: Fish and Wildlife Service, Interior.

ACTION: Proposed rule; reopening of comment period.

SUMMARY: We, the U.S. Fish and Wildlife Service, announce the reopening of the comment period for the proposed rule that would: List the Central California distinct population segment (DPS) of the California tiger salamander (Ambystoma californiense) as a threatened species under the Endangered Species Act of 1973, as amended (Act) (16 U.S.C. 1531 et seq.); reclassify the Sonoma County and Santa Barbara County DPSs of the California tiger salamander from endangered to threatened; and exempt, under section 4(d) of the Act, existing routine ranching activities on private or Tribal lands from section 9 prohibitions for the Central California DPS of the California tiger salamander and, if reclassified to threatened, for the Santa Barbara and Sonoma County DPSs. Comments previously submitted need not be resubmitted, as they will be incorporated into the public record as part of this reopened comment period and will be fully considered in the final rule.

DATES: Comments and information from all interested parties will be accepted until 5 p.m. on October 31, 2003.

ADDRESSES: (1) You may submit written comments to the Field Supervisor (Attn: CTS), U.S. Fish and Wildlife Service, Sacramento Fish and Wildlife Office, 2800 Cottage Way, Suite W-2605, Sacramento, CA 95825.

(2) You may send comments by electronic mail (e-mail) to: catiger@R1.fws.gov. See the “Public Comments Solicited” section below for file format and other information on electronic filing.

(3) You may hand-deliver comments to our Sacramento Fish and Wildlife Office at the address above.

Comments and materials received, as well as supporting documentation used in the preparation of the proposed rule, will be available for public inspection, by appointment, during normal business hours, at the above address. You may obtain copies of the proposed rule from the above address, by calling 916/414-6600, or from our Web site at http://sacramento.fws.gov.

FOR FURTHER INFORMATION CONTACT: Adam Zerrenner or Arnold Roessler of the Sacramento Fish and Wildlife Office, 2800 Cottage Way Room W-2605, Sacramento, CA 95825 (telephone 916/414-6600, facsimile 916/414-6713, or visit our Web site at http://sacramento.fws.gov/). Information regarding this proposal is available in alternative formats upon request.

SUPPLEMENTARY INFORMATION:

Background

On May 23, 2003, we published a proposed rule to list the Central California DPS of the California tiger salamander as a threatened species (68 FR 28647). The rule also proposed to reclassify the Sonoma County and Santa Barbara County DPSs from endangered to threatened. In addition, the proposed rule included a special rule to exempt, under section 4(d) of the Act, existing routine ranching activities from ?take? prohibitions under section 9 of the Act for the Central California DPS of the California tiger salamander and, if reclassified to threatened, for the Santa Barbara and Sonoma County DPSs. On July 3, 2003, we published a document to extend the comment period for the proposed rule to September 22, 2003 (68 FR 39892). For further information regarding background biological information, previous Federal actions, factors affecting the species, and conservation measures available to these three DPSs of the California tiger salamander, please refer to the proposed rule (68 FR 28647; May 23, 2003).

Public Comments Solicited

We intend that any final action resulting from this proposal will be as accurate and as effective as possible. Therefore, we are soliciting comments from the public, other concerned governmental agencies, the scientific community, industry, or any other interested party concerning this proposed rule. The Public Comments Solicited section of the proposed rule (68 FR 28647; May 23, 2003) includes a list of topics for which we are particularly seeking comments.

Previously submitted comments need not be resubmitted. If you submit comments by electronic mail (e-mail), please submit them as an ASCII file and avoid the use of special characters and any form of encryption. Please also include “Attn: RIN 1018-AI68” and your name and address in your e-mail message. If you do not receive a confirmation from the system that we have received your e-mail message, contact us directly by calling the Sacramento Fish and Wildlife Office (see ADDRESSES).

Author

The primary authors of this notice are Adam Zerrenner, Senior Fish and Wildlife Biologist and Arnold Roessler, Chief, Listing Branch (see ADDRESSES).

Authority

The authority for this action is the Endangered Species Act of 1973 (16 U.S.C. 1531 et seq.).

Dated: September 24, 2003.
Steve Williams,
Director, Fish and Wildlife Service.

[FR Doc. 03-24857 Filed 9-29-03; 8:45 am]

BILLING CODE 4310-55-P